DEPARTMENT OF DEFENSE

Office of the Secretary

Autism Services Demonstration Project for TRICARE Beneficiaries Under the Extended Care Health Option

AGENCY: Office of the Secretary, Department of Defense.

ACTION: Notice.

SUMMARY: This notice provides a 2-year extension of the Department of Defense Enhanced Access to Autism Services Demonstration Project under the Extended Care Health Option for beneficiaries diagnosed with an Autism Spectrum Disorder (ASD). Under the demonstration, the Department implemented a provider model that allows reimbursement for Intensive Behavioral Intervention (IBI) services, in particular, Applied Behavior Analysis, rendered by providers who are not otherwise eligible for reimbursement.

DATES: The demonstration will continue through March 14, 2012.

ADDRESSES: TRICARE Management Activity, Medical Benefits and Reimbursement Branch, 16401 East Centretech Parkway, Aurora, CO 80011-9066.

FOR FURTHER INFORMATION CONTACT: Mr. Michael Kottyan, TRICARE Management Activity, Medical Benefits and Reimbursement Branch, telephone (303) 676-3520.

SUPPLEMENTARY INFORMATION: On December 4, 2007, the Department of Defense published a Notice in the Federal Register (FR) (72 FR 68130) of a TRICARE demonstration to increase access to IBI services.

The effective date was 60 days following publication of the Notice, and the demonstration was implemented on March 15, 2008 for a period of 2 years. The purpose of the demonstration is to allow the Department to determine whether such a provider model increases access to services, the services are reaching those most likely to benefit from them, the quality of the services rendered meets the standard of care currently accepted by the community of providers, and whether State requirements for licensure or certification of providers of IBI services, where such exists, are being met. The Demonstration began enrolling beneficiaries and developing the network of providers of IBI services on March 15, 2008. Subsequently, the Department determined that participation by both beneficiaries and providers was considerably less than expected due primarily to administrative requirements of the demonstration. In response, the Department developed and published revised operational guidance in September 2008. Although preliminary review indicates the demonstration can provide a measurable increase in access to IBI services, the need to modify our guidance contributed to a 6 month delay in evaluating the effectiveness of the demonstration. In addition, the Department recognizes that the subject of ASDs is complex, in particular, with respect to the number of individuals diagnosed with ASD, the treatment of ASD that generally includes several years of behavior modification through educational services, and the ability of the provider community to increase the number of qualified providers.

Consequently, the Department has determined that continuation of the demonstration is both in the best interest of TRICARE beneficiaries diagnosed with an ASD, and necessary to collect sufficient comprehensive data, including the results of the recent survey of beneficiaries and providers participating in the demonstration, in order to fully evaluate the effectiveness of the delivery model employed by the demonstration. This extension will determine whether the demonstration met its stated purpose and provide the Department with the information necessary to make sound judgments regarding payment of benefits. The demonstration continues to be authorized by 10 U.S.C. 1092.

Dated: February 22, 2010.
Patricia Toppings,
OSD Federal Register Liaison Officer, Department of Defense.

[FR Doc. 2010-3990 Filed 2-25-10; 8:45 am]

BILLING CODE 5001-06-P